ENVIRONMENTAL PROTECTION AGENCY

40 CFR Part 302

[EPA-HQ-SFUND-2010-1068; FRL-9268-8]

Designation, Reportable Quantities, and Notification; Notification Requirements

AGENCY: Environmental Protection Agency (EPA).

ACTION: Final rule; technical amendment.

SUMMARY: EPA is issuing a technical amendment to correct telephone and facsimile numbers used to immediately notify the National Response Center. EPA issued a final rule in the Federal Register on April 4, 1985, that provided telephone numbers for any person in charge of a vessel or an offshore or an onshore facility to use as soon as he or she has knowledge of any release (other than a federally permitted release or application of a pesticide) for the immediate notification to the National Response Center when there is a release of a hazardous substance from a vessel or facility in a quantity equal to or exceeding the reportable quantity in any 24-hour period. On July 9, 2002, EPA issued another final rule in the Federal Register that provided an additional telephone number, a facsimile number, and a telex number for the National Response Center. Recently, changes were made to these numbers by the National Response Center that is operated by the U.S. Coast Guard. This document is being issued to delete one of the telephone numbers, the facsimile number, and the telex number, and to provide a new facsimile number.

DATES: This final rule is effective on February 22, 2011.

ADDRESSES: EPA has established a docket for this action under Docket ID No. EPA-HQ-SFUND-2010-1068. All documents in the docket are listed on the http://www.regulations.gov Web site. Although listed in the index, some information is not publicly available, e.g., CBI or other information whose disclosure is restricted by statute. Certain other material, such as copyrighted material, is not placed on the Internet and will be publicly available only in hard copy form. Publicly available docket materials are available either electronically through http://www.regulations.gov or in hard copy at the Superfund Docket, EPA/DC, EPA West, Room 3334, 1301 Constitution Ave., NW., Washington, DC. The Public Reading Room is open from 8:30 a.m. to 4:30 p.m., Monday through Friday, excluding legal holidays. The telephone number for the Public Reading Room is (202) 566-1744, and the telephone number for the Superfund Docket is (202) 566-0276.

FOR FURTHER INFORMATION CONTACT: Lynn Beasley, Regulation and Policy Development Division, Office of Emergency Management (5104A), Environmental Protection Agency, 1200 Pennsylvania Ave., NW., Washington, DC 20460; telephone number: (202) 564-1965; fax number: (202) 564-2625; e-mail address: beasley.lynn@epa.gov.

SUPPLEMENTARY INFORMATION:

I. General Information

A. Does this action apply to me?

Type of entity | Examples of affected entities
Federal Agencies | National Response Center and any Federal agency that may release or respond to releases of hazardous substances.
State and Local Governments | State Emergency Response Commissions, and Local Emergency Planning Committees.
Responsible Parties | Those entities responsible for the release of a hazardous substance from a vessel or facility.

This table is not intended to be exhaustive, but rather provides a guide for readers regarding entities likely to be regulated by this action. This table lists the types of entities that EPA is now aware could potentially be regulated by this action. Other types of entities not listed in the table could also be regulated. If you have questions regarding the applicability of this action to a particular entity, consult the person listed in the preceding FOR FURTHER INFORMATION CONTACT section.

B. How can I get copies of this document and other related information?

The current information is as follows:

• Docket ID No. EPA-HQ-SFUND-2010-1068.

• Federal eRulemaking Portal: http://www.regulations.gov.

II. What does this correction do?

This technical amendment is a correction that is being issued to delete one of the telephone numbers, the facsimile number, and the telex number, and to provide a new facsimile number for the person in charge of a vessel or an offshore or an onshore facility to use to contact the National Response Center (NRC). The NRC is operated by the U.S. Coast Guard.

On April 4, 1985, (50 FR 13456) EPA issued a final rule in the Federal Register that provided telephone numbers for any person in charge of a vessel or an offshore or an onshore facility to use as soon as he or she has knowledge of any release (other than a federally permitted release or application of a pesticide) for the immediate notification to the NRC when there is a release of a hazardous substance from a vessel or facility in a quantity equal to or exceeding the reportable quantity in any 24-hour period (see 40 CFR 302.6(a)). On July 9, 2002, EPA issued another final rule in the Federal Register that provided an additional telephone number, a facsimile number, and a telex number for the NRC. Recently, changes were made to these numbers.

III. Why is this correction issued as a final rule?

Section 553 of the Administrative Procedure Act (APA), 5 U.S.C. 553(b)(B), provides that, when an Agency for good cause finds that notice and public procedure are impracticable, unnecessary or contrary to the public interest, the agency may issue a final rule without providing notice and an opportunity for public comment. EPA has determined that there is good cause for making this technical amendment final without prior proposal and opportunity for comment, because EPA is merely correcting information that has become out of date since the previously published final rule. The contact information for the NRC listed in 40 CFR 302.6 is no longer correct. Because the NRC receives notifications of hazardous substance release information, it is important that the public has the correct information to make such notifications. EPA finds that this constitutes good cause under 5 U.S.C. 553(b)(B).

IV. Do any of the statutory and Executive Order reviews apply to this action?

Under Executive Order 12866 (58 FR 51735, October 4, 1993), this action is not a “significant regulatory action” and is therefore not subject to OMB review. Because this action is not subject to notice and comment requirements under the Administrative Procedures Act or any other statute, it is not subject to the Regulatory Flexibility Act (5 U.S.C. 601 et seq.) or Sections 202 and 205 of the Unfunded Mandates Reform Act of 1999 (UMRA) (Pub. L. 104-4). In addition, this action does not significantly or uniquely affect small governments. This action does not create new binding legal requirements that substantially and directly affect Tribes under Executive Order 13175 (63 FR 67249, November 9, 2000). This action does not have significant Federalism implications under Executive Order 13132 (64 FR 43255, August 10, 1999). Because this final rule has been exempted from review under Executive Order 12866, this final rule is not subject to Executive Order 13211, entitled Actions Concerning Regulations That Significantly Affect Energy Supply, Distribution, or Use (66 FR 28355, May 22, 2001) or Executive Order 13045, entitled Protection of Children from Environmental Health Risks and Safety Risks (62 FR 19885, April 23, 1997). This final rule does not contain any information collections subject to OMB approval under the Paperwork Reduction Act (PRA), 44 U.S.C. 3501 et seq., nor does it require any special considerations under Executive Order 12898, entitled Federal Actions to Address Environmental Justice in Minority Populations and Low-Income Populations (59 FR 7629, February 16, 1994). This action does not involve technical standards; thus, the requirements of Section 12(d) of the National Technology Transfer and Advancement Act of 1995 (15 U.S.C. 272 note) do not apply.

A. Congressional Review Act

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. Section 808 allows the issuing agency to make a rule effective sooner than otherwise provided by the CRA if the agency makes a good cause finding that notice and public procedure is impracticable, unnecessary or contrary to the public interest. This determination must be supported by a brief statement. 5 U.S.C. 808(2). As stated previously, EPA has made such a good cause finding, including the reasons therefore, and established an effective date of February 22, 2011. EPA will submit a report containing this rule and other required information to the U.S. Senate, the U.S. House of Representatives, and the Comptroller General of the United States prior to publication of the rule in the Federal Register. This action is not a “major rule” as defined by 5 U.S.C. 804(2).

List of Subjects in 40 CFR Part 302

Environmental protection, Air pollution control, Chemicals, Hazardous substances, Hazardous waste, Intergovernmental relations, Natural resources, Reporting and recordkeeping requirements, Superfund, Water pollution control, Water supply.

Dated: February 11, 2011.
Barry Breen,
Acting Assistant Administrator, Office of Solid Waste and Emergency Response.

For the reasons set out above, title 40, chapter I of the Code of Federal Regulations is amended as follows:

PART 302—DESIGNATION, REPORTABLE QUANTITIES, AND NOTIFICATION

1. The authority citation for part 302 continues to read as follows:

Authority: 42 U.S.C. 9602, 9603, and 9604; 33 U.S.C. 1321 and 1361.

2. Section 302.6 is amended by revising paragraph (a) to read as follows:

§ 302.6 Notification requirements.

(a) Any person in charge of a vessel or an offshore or an onshore facility shall, as soon as he or she has knowledge of any release (other than a federally permitted release or application of a pesticide) of a hazardous substance from such vessel or facility in a quantity equal to or exceeding the reportable quantity determined by this part in any 24-hour period, immediately notify the National Response Center (1-800-424-8802; in Washington, DC 202-267-2675; the facsimile number is 202-267-1322).

* * * * *

[FR Doc. 2011-3872 Filed 2-18-11; 8:45 am]

BILLING CODE 6560-50-P